DEPARTMENT OF AGRICULTURE

Operating Guidelines, Forms, and Waivers; Correction

AGENCY: Food and Nutrition Service.

ACTION: Notice; Correction.

SUMMARY: The Department of Agriculture published a document in the Federal Register on October 12, 2010, concerning a request for comments on the information collection “Operating Guidelines, Forms, and Waivers” OMB control number 0584-0083. The document contained incorrect burden hours. The total burden hours should be 7,537 not 2,849 as published.

Ruth Brown,
Departmental Information Collection Clearance Officer.

[FR Doc. 2010-27507 Filed 10-29-10; 8:45 am]

BILLING CODE 3410-30-P